NUCLEAR REGULATORY COMMISSION

[Docket Nos.: 50-454, 50-455, 50-456, 50-457; NRC-2013-0126]

Byron Nuclear Station, Units 1 and 2, and Braidwood Nuclear Station, Units 1 and 2

AGENCY: Nuclear Regulatory Commission.

ACTION: License renewal application; Notice of receipt and availability.

SUMMARY: The U.S. Nuclear Regulatory Commission (NRC) has received an application, dated May 29, 2013, from Exelon Generation Company, LLC, filed pursuant to Section 103 of the Atomic Energy Act of 1954, as amended, and according to NRC's regulations, to renew the operating licenses for the Byron Nuclear Station, Units 1 and 2 (Byron), and the Braidwood Nuclear Station, Units 1 and 2 (Braidwood). Renewal of the licenses would authorize the applicant to operate each facility for an additional 20-year period beyond the period specified in the respective current operating licenses.

ADDRESSES: Please refer to Docket ID NRC-2013-0126 when contacting the NRC about the availability of information regarding this document. You may access information related to this document, which the NRC possesses and are publicly available, using any of the following methods:

• Federal Rulemaking Web site: Go to http://www.regulations.gov and search for Docket ID NRC-2013-0126. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The application is available in ADAMS under Accession No. ML131550528. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: John Daily, Senior Project Manager, Projects Branch 1, Division of License Renewal, Office of Nuclear Reactor Regulation, U.S. Nuclear Regulatory Commission, Washington, DC 20555; telephone: 301-415-3873; email: John.Daily@nrc.gov.

SUPPLEMENTARY INFORMATION:

The current operating licenses for Byron expire as follows: Unit 1 (NPF-37) on October 31, 2024, and Unit 2 (NPF-66) on November 6, 2026. The current operating licenses for Braidwood expire as follows: Unit 1 (NPF-72) on October 17, 2026, and Unit 2 (NPF-77) on December 18, 2027. All four units are pressurized-water reactors designed by Westinghouse; Byron is located near Byron, IL, and Braidwood is located near Braidwood, IL. The acceptability of the tendered application for docketing, and other matters, including an opportunity to request a hearing, will be the subject of subsequent Federal Register notices.

Copies of the application are available to the public at the Commission's Public Document Room (PDR), located at One White Flint North, 11555 Rockville Pike, Rockville, Maryland, 20852, or through the internet from the NRC's Agencywide Documents Access and Management System (ADAMS) Public Electronic Reading Room under Accession Number ML131550528. The ADAMS Public Electronic Reading Room is accessible from the NRC Web site at http://www.nrc.gov/reading-rm/adams.html. In addition, the application is available at http://www.nrc.gov/reactors/operating/licensing/renewal/applications.html. Persons who do not have access to the internet or who encounter problems in accessing the documents located in ADAMS should contact the NRC's PDR reference staff at 1-800-397-4209, extension 4737, or by email to pdr.resource@nrc.gov.

A copy of the license renewal application for Byron, Units 1 and 2, and Braidwood, Units 1 and 2, is also available to local residents near the respective sites at both the Byron Public Library, 100 S. Washington Street, Byron, IL 61010, and the Fossil Ridge (Braidwood) Public Library, 386 W. Kennedy Road, Braidwood, IL 60408.

Dated at Rockville, Maryland, this June 6, 2013.
For the Nuclear Regulatory Commission.
John W. Lubinski,
Director, Division of License Renewal, Office of Nuclear Reactor Regulation.

[FR Doc. 2013-14082 Filed 6-12-13; 8:45 am]

BILLING CODE 7590-01-P